DEPARTMENT OF AGRICULTURE

Food Safety and Inspection Service

9 CFR Parts 331 and 381

[Docket No. FSIS-2007-0023]

RIN 0583-AD29

Designation of the State of New Mexico Under the Federal Meat Inspection Act and Poultry Products Inspection Act

AGENCY: Food Safety and Inspection Service, USDA.

ACTION: Final Rule.

SUMMARY: The Food Safety and Inspection Service (FSIS) is announcing that it is designating the State of New Mexico as a State to receive Federal inspection with respect to operations and transactions involving meat and poultry products within the State because representatives of the State have requested such designation. In response to the State's request, FSIS will assume responsibility for the meat and poultry inspection programs in the State of New Mexico on August 13, 2007. Therefore, FSIS is amending the Federal meat and poultry products inspection regulations by adding New Mexico to the list of designated States.

DATES: This final rule will be effective on August 13, 2007.

FOR FURTHER INFORMATION CONTACT: Ron Eckel, Chief Federal State Audit Branch, Internal Control Division, Office of Program Evaluation, Enforcement, and Review, Food Safety and Inspection Service, USDA, 1299 Farnam Street, Suite 300, Landmark Center Building, Omaha, Nebraska 68102; telephone 402-344-5000.

SUPPLEMENTARY INFORMATION: FSIS has been delegated the authority to exercise the functions of the Secretary of Agriculture as specified in the Federal Meat Inspection Act (FMIA) (21 U.S.C. 601, et seq.) and the Poultry Products Inspection Act (PPIA) (21 U.S.C. 451, et seq.). These statutes provide that FSIS is to protect the public by verifying that meat and poultry products are safe, wholesome, unadulterated, and properly labeled and packaged.

Under these statutes, a State may administer meat and poultry inspection programs provided that it has developed and is effectively enforcing inspection requirements at least equal to those imposed under titles I and IV of the FMIA and sections 1-4, 6-10, and 12-22 of the PPIA. If States can no longer effectively enforce meat and poultry inspection requirements at least equal to the Federal requirements, they must be “designated” by the Secretary to receive Federal inspection (21 U.S.C. 661(c) & 454(c)).

The Governor of New Mexico sent a letter to the Secretary of the United States Department of Agriculture, dated June 22, 2007, requesting the designation of New Mexico for purposes of allowing FSIS to conduct food safety inspections of meat and poultry products within the State of New Mexico. Consequently, the Secretary of Agriculture is designating the State of New Mexico under 21 U.S.C. 661(c) of the FMIA and 21 U.S.C. 454(c) of the PPIA. On and after August 13, 2007, the provisions of titles I and IV of the FMIA and sections 1-4, 6-10, and 12-22 of the PPIA will apply to operations and transactions involving meat and poultry products within the State of New Mexico, unless exempt under 21 U.S.C. 623 or 661(c)(2) of the FMIA or 21 U.S.C. 454(c)(2) or 464 of the PPIA.

Owners or operators of New Mexico's meat and poultry establishments wishing to continue operations after August 13, 2007, must contact the FSIS District Office in Denver, CO, in order to receive Federal inspection. This office will provide information concerning requirements and exemptions under the FMIA and the PPIA, applications for inspection, and requests for surveys of establishments. Address correspondence to Denver Federal Center, P.O. Box 25387, Building 45, Denver, CO 80225. Phone number: (303) 236-9800.

The Acting Administrator, FSIS, has determined that there is good cause for issuing this final rule without prior notice and opportunity for public comment. FSIS has determined that it is in the public interest to ensure a smooth, orderly and expeditious transition to Federal inspection. Representatives of the State of New Mexico have requested that the State be designated to receive Federal inspection with respect to operations and transactions involving meat and poultry products within the State. The Agency is mandated by law to assume the responsibility for administering the New Mexico meat and poultry inspection programs. It is necessary, therefore, to designate the State of New Mexico, in accordance with the FMIA (21 U.S.C. 661(c)) and the PPIA (21 U.S.C. 454(c)), in order to carry out the Secretary's responsibilities under the FMIA and the PPIA.

In addition, it does not appear that new, relevant information would be made available to the Secretary by public participation in this rulemaking. Accordingly, under the administrative procedures in 5 U.S.C. 553, FSIS finds good cause to conclude that notice and other public procedures are unnecessary and contrary to the public interest.

Executive Order 12866 and Regulatory Flexibility Act

This final rule has been determined to be not significant under Executive Order 12866 and, therefore, has not been reviewed by the Office of Management and Budget.

The Acting Administrator, FSIS, has determined that this final rule will not have a significant economic impact on a substantial number of small entities. FSIS, pursuant to law, is assuming the responsibility, previously held by the State of New Mexico, of administering the meat and poultry inspection programs with respect to operations and transactions within the State of New Mexico. This action will affect approximately 25 meat and poultry establishments. Most, if not all, are very small establishments. In addition, there are approximately 30 custom exempt facilities in New Mexico, all small entities. However, this is not a substantial number of either very small establishments or custom exempt facilities. There are approximately 5,070 very small meat and poultry establishments nationwide, which are either federally or State inspected, and approximately 3,135 custom-exempt facilities nationwide. In addition, it is not anticipated that significant costs will be incurred by these establishments in New Mexico as a result of these actions.

Executive Order 12988

This final rule has been reviewed under Executive Order 12988, Civil Justice Reform. This rule: (1) Preempts State and local laws and regulations that are inconsistent with this rule; (2) has no retroactive effect; and (3) does not require administrative proceedings before parties may file suit in court challenging this rule. However, the administrative procedures specified in 9 CFR 306.5 and 381.35 must be exhausted prior to any judicial challenge of the application of the provisions of this rule, if the challenge involves any decision of an FSIS employee relating to inspection services provided under the FMIA or the PPIA.

Paperwork Requirements

This final rule has been reviewed under the Paperwork Reduction Act of 1995 (44 U.S.C. 3501-3520) and the Agency has determined that it imposes no new paperwork requirements.

Additional Public Notification

Public awareness of all segments of rulemaking and policy development is important. Consequently, in an effort to ensure that the public and in particular minorities, women, and persons with disabilities, are aware of this notice, FSIS will announce it on-line through the FSIS web page located at http://www.fsis.usda.gov/regulations/2007_Interim_&_Final_Rules_Index/index.asp.

FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service consisting of industry, trade, and farm groups, consumer interest groups, allied health professionals, scientific professionals, and other individuals who have requested to be included. The update also is available on the FSIS Web page. Through Listserv and the Web page, FSIS is able to provide information to a much broader, more diverse audience.

In addition, FSIS offers an e-mail subscription service which provides automatic and customized access to selected food safety news and information. This service is available at http://www.fsis.usda.gov/news_and_events/email_subscription/. Options range from recalls to export information to regulations, directives and notices. Customers can add or delete subscriptions themselves and have the option to password protect their account.

List of Subjects

9 CFR Part 331

Meat inspection.

9 CFR Part 381

Poultry and poultry products.

Accordingly, 9 CFR parts 331 and 381 are amended as follows:

PART 331—SPECIAL PROVISIONS FOR DESIGNATED STATES AND TERRITORIES; AND FOR DESIGNATION OF ESTABLISHMENTS WHICH ENDANGER PUBLIC HEALTH AND FOR SUCH DESIGNATED ESTABLISHMENTS

1. The authority citation for part 331 continues to read as follows:

Authority: 21 U.S.C. 601-695; 7 CFR 2.18, 2.53.

§ 331.2 [Amended]

2. The table in § 331.2 is amended in the “State” column by adding “New Mexico” as the entry immediately above “New York” and in the “Effective date of application of Federal provisions” column, by adding “August 13, 2007” on the line with “New Mexico.”

PART 381—POULTRY PRODUCTS INSPECTION

3. The authority citation for part 381 continues to read as follows:

Authority: 7 U.S.C. 138f, 450; 21 U.S.C. 451-470; 7 CFR 2.18, 2.53.

§ 381.221 [Amended]

4. The table in § 381.221 is amended in the “States” column by adding “New Mexico” as the entry immediately above “New York” and in the “Effective date of application of Federal provisions” column, by adding “August 13, 2007,” on the line with “New Mexico.”

Done at Washington, DC, on: July 10, 2007.
David P. Goldman,
Acting Administrator.

[FR Doc. E7-13650 Filed 7-12-07; 8:45 am]

BILLING CODE 3410-DM-P